DEPARTMENT OF EDUCATION

Applications for New Awards; Technical Assistance and Dissemination To Improve Services and Results for Children With Disabilities—Model Demonstration Projects To Improve Academic Outcomes of Students With Intellectual Disabilities in Elementary and Middle School

AGENCY: Office of Special Education and Rehabilitative Services, Department of Education.

ACTION: Notice.

SUMMARY: The Department of Education is issuing a notice inviting applications for a new award for fiscal year (FY) 2018 for Technical Assistance and Dissemination to Improve Services and Results for Children with Disabilities—Model Demonstration Projects to Improve Academic Outcomes of Students with Intellectual Disabilities in Elementary and Middle School, Catalog of Federal Domestic Assistance (CFDA) number 84.326M.

DATES:

Applications Available: July 13, 2018.

Deadline for Transmittal of Applications: August 13, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Kristen Rhoads, U.S. Department of Education, 400 Maryland Avenue SW, Room 5142, Potomac Center Plaza, Washington, DC 20202-5108. Telephone: (202) 245-6715. Email: Kristen.Rhoads@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priorities: This notice includes one absolute priority. In accordance with 34 CFR 75.105(b)(2)(v), the absolute priority, and the competitive preference priority within this absolute priority, are from allowable activities specified in the statute or otherwise authorized in the statute (see sections 663 and 681(d) of the Individuals with Disabilities Education Act (IDEA); 20 U.S.C. 1463, 1481(d)).

Absolute Priority: For FY 2018 and any subsequent year in which we make awards from the list of unfunded applications from this competition, this priority is an absolute priority. Under 34 CFR 75.105(c)(3), we consider only applications that meet this priority.

This priority is:

Model Demonstration Projects to Improve Academic Outcomes of Students with Intellectual Disabilities in Elementary and Middle School.

Background: The mission of the Office of Special Education and Rehabilitative Services (OSERS) is to improve early childhood, educational, and employment outcomes and raise expectations for all people with disabilities, their families, their communities, and the Nation.

Model demonstrations to improve early intervention, educational, or transitional results for students with disabilities have been authorized under the Individuals with Disabilities Education Act (IDEA) since the law's inception. For the purposes of this priority, a model is a set of existing evidence-based (as defined in this notice) interventions and implementation strategies (i.e., core model components) that research suggests will improve outcomes for children, teachers, instructional personnel, school or district leaders, or systems, when implemented with fidelity. Model demonstrations involve investigating the degree to which a given model can be implemented and sustained in typical settings, by staff employed in those settings, while achieving outcomes similar to those attained under research conditions.

The purpose of this priority is to fund three cooperative agreements to establish and operate model demonstration projects that will assess how models can:

(a) Improve outcomes in English Language Arts, including literacy, and other academic subjects for students with intellectual disabilities ¹ in elementary or middle schools;

¹ For this competition, having an IEP with intellectual disability as a primary or secondary disability category is not required to be a student with an intellectual disability.

(b) Align instruction to grade-level, State-adopted content standards and provide access to the general education curriculum;

(c) Provide students with intellectual disabilities the opportunity to meet challenging objectives and receive an individualized education program (IEP) that is both meaningful and appropriately ambitious in light of each student's circumstances; and

(d) Be implemented and sustained by educators in both general and special education settings.

On March 22, 2017, the U.S. Supreme Court (the Court) issued a unanimous opinion in Endrew F. v. Douglas County School District Re-1, 137 S. Ct. 988 (2017). The Court interpreted the scope of the free appropriate public education (FAPE) requirements in IDEA and overturned the Tenth Circuit's decision that Endrew, a child with autism, was entitled to an educational benefit that was guaranteed to provide only “merely more than de minimis” progress. The Court determined that, “[t]o meet its substantive obligation under the IDEA, a school must offer an IEP reasonably calculated to enable a child to make progress appropriate in light of the child's circumstances.” The Court additionally emphasized the requirement that “every child should have the chance to meet challenging objectives.” This decision underlines the importance of exploring models focused on improving academic outcomes for students with intellectual disabilities, a population frequently subject to low expectations and held to low standards.

A growing research base indicates that students with intellectual disabilities demonstrate gains in reading at the same rate as their peers despite demonstrating significantly lower levels of overall performance (Schulte, Stevens, Elliott, Tindal, & Nese, 2016). Promising strategies, practices (e.g., embedded trial instruction with time delay, peer tutoring, direct instruction, systematic prompting with feedback, and more), and curricula exist that support academic instruction and improve student outcomes in literacy and other academic content areas (Browder, Mims, Spooner, & Ahlgrim-Delzell, & Lee, 2008; Butler, Miller, Lee, & Pierce, 2001; Jimenez, Browder, Spooner, & DiBiase, 2012; Hudson, Browder, & Wood, 2013; Lemons, Allor, Al Otaiba, & LeJune, 2016).

Instruction of students with intellectual disabilities, however, has not typically provided them with the chance to meet challenging objectives. Instead of teaching grade-level content that meets State standards, instruction for students with intellectual disabilities has been typically limited to non-academic functional life skills. For example, literacy instruction for students with intellectual disabilities has historically focused on only one component of literacy development—recognition of sight words considered important for daily living (Browder, Wakeman, Spooner, Ahlgrim-Delzell, & Algozzine, 2006).

Further, teachers have reported difficulties in aligning instruction to grade-level academic content standards for students with intellectual disabilities (Jimenez & Henderson, 2011). This is due, in part, to the reality that, when compared to their peers, these students may have greatly divergent levels of functional and academic skill attainment, may require significant modifications and individualization of the curriculum, need differing modes of access to content and instruction, or need additional time for learning (Allor, Mathes, Roberts, Cheatham, & Champlin, 2010).

To overcome this history and these challenges, to ensure that students with intellectual disabilities in elementary and middle schools receive appropriate access to challenging objectives and grade-level academic standards, and to ensure that these students progress in the general education curriculum, with accompanying services and supports as required under IDEA, educators must have access to evidence-based practices on instruction in academic subjects, particularly English Language Arts, including literacy. This competition, therefore, aims to fund model demonstration projects that will demonstrate and refine methods of professional development that result in educators successfully implementing appropriate, evidence-based practices in English Language Arts, including literacy, and other academic subjects. The model demonstration projects proposed under this priority must make use of evidence-based practices.

This priority is consistent with two priorities from the Supplemental Priorities and Definitions for Discretionary Grant Programs, published in the Federal Register on March 2, 2018 (83 FR 9096) (Supplemental Priorities): Priority 5—Meeting the Unique Needs of Students and Children With Disabilities and/or Those With Unique Gifts and Talents; and Supplemental Priority 8—Promoting Effective Instruction in Classrooms and Schools. In particular, priority 5 from the Supplemental Priorities emphasizes meeting the unique needs of students with disabilities, including their academic needs, through offering the opportunity to meet challenging objectives and receive an educational program that is both meaningful and appropriately ambitious in light of each student's circumstances. Priority 8 from the Supplemental Priorities emphasizes promoting innovative strategies to increase the number of students who have access to effective educators and principals or other school leaders.

Priority: The purpose of this priority is to fund three cooperative agreements to establish and operate model demonstration projects. The proposed model demonstration projects must address instruction that improves outcomes in English Language Arts, including literacy, for students with intellectual disabilities, and may include instruction in other academic subjects. The model demonstration projects will assess how models can:

(a) Improve outcomes in English Language Arts, including literacy, and other academic subjects for students with intellectual disabilities in elementary or middle schools;

(b) Align instruction to grade-level, State-adopted content standards and provide access to the general education curriculum;

(c) Provide students with intellectual disabilities the opportunity to meet challenging objectives and receive an IEP that is both meaningful and appropriately ambitious in light of each student's circumstances; and

(d) Be implemented and sustained by educators in both general and special education settings. Applicants must propose models that meet the following requirements:

(a) The model's core intervention components must include:

(1) A framework that includes, at a minimum, assessment, incorporating approaches for measuring student progress, and the application of evidence-based core instructional practices;

(2) Evidence-based instructional practices for improving outcomes in English Language Arts, including literacy, or other academic subjects, as appropriate, for students with intellectual disabilities in elementary or middle school that are designed to—

(i) Help students meet challenging objectives; and

(ii) Support comprehensive, standards-aligned instruction in grade-level content.

(3) Valid and reliable measures of student-level, instructor-level, and system-level outcomes, using standardized measures when applicable;

(4) Procedures to refine the model based on the ongoing assessment of student-level, instructor-level, and system-level performance; and

(5) Measures of the model's social validity, i.e., measures of educators', parents', and students' ² satisfaction with the model components, processes, and outcomes.

² Applicants must ensure the confidentiality of individual student data, consistent with the Confidentiality of Information regulations under both Part B and Part C of IDEA, which incorporate requirements and exceptions under section 444 of the General Education Provisions Act (20 U.S.C. 1232g), commonly known as the “Family Educational Rights and Privacy Act” (FERPA), but also include several provisions that are specifically related to children with disabilities receiving services under IDEA and provide protections beyond the FERPA regulations. Therefore, examining the IDEA requirements first is the most effective and efficient way to meet the requirements of both IDEA and FERPA for children with disabilities. Applicants should also be aware of State laws or regulations concerning the confidentiality of individual records. See https://www2.ed.gov/policy/gen/guid/ptac/pdf/idea-ferpa.pdf and https://studentprivacy.ed.gov/resources/ferpaidea-cross-walk. Final FERPA regulatory changes became effective January 3, 2012, and include requirements for data sharing. Applicants are encouraged to review the final FERPA regulations published on December 2, 2011 (76 FR 75604). Questions can be sent to the Family Policy Compliance Office (www.ed.gov/fpco) at (202) 260-3887 or FERPA@ed.gov.

(b) The model's core implementation components must include:

(1) Criteria and strategies for selecting ³ and recruiting sites, including approaches to introducing the model to, and promoting the model among, site participants,⁴ with consideration given to the following criteria:

³ For factors to consider when selecting model demonstration sites, the applicant should refer to Assessing Sites for Model Demonstration: Lessons Learned for OSEP Grantees at http://mdcc.sri.com/documents/MDCC_Site_Assessment_Brief_09-30-11.pdf. The document also contains a site assessment tool.

⁴ For factors to consider while preparing for model demonstration implementation, the applicant should refer to Preparing for Model Demonstration Implementation at http://mdcc.sri.com/documents/MDCC_PreparationStage_Brief_Apr2013.pdf.

(i) Each project must include at least three elementary or at least three middle schools; and

(ii) In each of the schools, all of the students participating in the model demonstration project must have an intellectual disability, as defined in this notice. Across all implementation sites, the project must serve no fewer than 50 students with intellectual disabilities;

(2) A lag site implementation design, which allows for model development and refinement at the first site in year one of the project period, with sites two and three implementing a revised model based on data from the first site beginning in subsequent project years.

Note: When designing the project, applicants should consider project period length as well as relevant research indicating that learning may take longer for students with intellectual disabilities (Allor et al., 2010) and provide strong justification for timing of implementation for sites two and three.

(3) A professional development component that includes an evidence-based coaching strategy, to enable site-based staff to implement the interventions with fidelity; and

(4) Measures of the results of the professional development (e.g., improvements in teachers'/service providers' knowledge) required by paragraph (b)(3) of this section, including measures of the fidelity of implementation.

(c) The core strategies for sustaining the model must include:

(1) Documentation that permits current and future site-based staff to replicate or appropriately tailor and sustain the model at any site; ⁵ and

⁵ For a guide on documenting model demonstration sustainment and replication, the applicant should refer to Planning for Replication and Dissemination From the Start: Guidelines for Model Demonstration Projects Revised at http://mdcc.sri.com/documents/MDCC_ReplicationBrief_SEP2015.pdf.

(2) Strategies for the grantee to disseminate or promote the use of the model, such as developing easily accessible online training materials, coordinating with TA providers who might serve as future trainers, or providing technical support (e.g., webinars, training sessions, or workshops) for users who may want to learn about and implement the model and its components.

To be considered for funding under this absolute priority, applicants must meet the application requirements contained in this priority. Each project funded under this absolute priority also must meet the programmatic and administrative requirements specified in the priority.

Application Requirements

An applicant must include in its application—

(a) A detailed review of the literature addressing the proposed model or its intervention or implementation components and processes to improve access to challenging objectives and grade-level content, and improve outcomes, in English Language Arts, including literacy, and other academic subjects, as appropriate, for students with intellectual disabilities in elementary or middle school;

(b) A logic model (as defined in this notice) that depicts, at a minimum, the goals, activities, outputs, and outcomes (described in paragraph (a) under the heading Priority) of the proposed model demonstration project.

Note: The following websites provide resources for constructing logic models: www.osepideasthatwork.org/logicModel and www.osepideasthatwork.org/resources-grantees/program-areas/ta-ta/tad-project-logic-model-and-conceptual-framework.

(c) A description of the activities and measures to be incorporated into the proposed model demonstration project (i.e., the project design) to improve access to grade-level content and improve outcomes in English Language Arts, including literacy, and other academic subjects, as appropriate, for students with intellectual disabilities, including a timeline of how and when the components are introduced within the model. A detailed and complete description must include the following:

(1) All the intervention components, including, at a minimum, those listed under paragraph (a) under the heading Priority.

(2) The existing and proposed child, teacher, service provider, or system outcome measures and social validity measures. The measures should be described as completely as possible, referenced as appropriate, and included, when available, in Appendix A.

(3) All the implementation components, including, at a minimum, those listed under paragraph (b) under the heading Priority. The existing or proposed implementation fidelity measures, including those measuring the fidelity of the professional development strategy, should be described as completely as possible, referenced as appropriate, and included, when available, in Appendix A. In addition, this description should include:

(i) Demographics, including, at a minimum, the number of students with intellectual disabilities, their ages, and their grade levels (while ensuring confidentiality of individual data), at all implementation sites that have been identified and successfully recruited for the purposes of this application using the selection and recruitment strategies described in paragraph (b)(1) under the heading Priority;

(ii) Whether the implementation sites are located in rural, urban, or suburban local educational agencies (LEAs) or are schools identified for comprehensive support and improvement ⁶ or schools implementing targeted support and improvement plans ⁷ under title I of the Elementary and Secondary Education Act of 1965 (ESEA), as amended by the Every Student Succeeds Act (ESSA); and

⁶ For the purposes of this priority, “schools identified for comprehensive support and improvement” means a statewide identified category of schools that includes (a) not less than the lowest-performing five percent of all schools receiving funds under this part in the State; (b) all public high schools in the State failing to graduate one-third or more of their students; (c) public schools in the State described under subsection 1111(d)(3)(A)(i)(II) of the Elementary and Secondary Education Act of 1965, as amended by the Every Student Succeeds Act (ESEA); and (d) at the discretion of the State, additional statewide categories of schools, as defined in section 1111(c)(4)(D)(i) of the ESEA.

⁷ For the purposes of this priority, “schools implementing targeted support and improvement plans” means a school that has developed and is implementing a school-level targeted support and improvement plan to improve student outcomes based on the indicators in the statewide accountability system as defined in section 1111(d)(2) of the ESEA.

Note: Applicants are encouraged to identify, to the extent possible, the sites willing to participate in the applicant's model demonstration. Final site selection will be determined in consultation with the Office of Special Education Programs (OSEP) project officer following the kick-off meeting described in paragraph (e)(1) of these application requirements.

(iii) The lag site implementation design for implementation consistent with the requirements in paragraph (b)(2) under the heading Priority.

(4) All the strategies to promote sustaining and replicating the model, including, at a minimum, those listed under paragraph (c) under the heading Priority.

(d) A description of the evaluation activities and measures to be incorporated into the proposed model demonstration project. A detailed and complete description must include:

(1) A formative evaluation plan, consistent with the project's logic model, that includes evaluation questions, source(s) of data, a timeline for data collection, and analysis plans. The plan must show how the outcome data (e.g., child, teacher, or systems measures, social validity) and implementation data (e.g., fidelity, effectiveness of professional development activities) will be used separately or in combination to improve the project during the performance period. These data will be reported in the Annual Performance Report (APR). The plan also must outline how these data will be reviewed by project staff, when they will be reviewed, and how they will be used during the course of the project to adjust the model or its implementation to increase the model's usefulness, generalizability, and potential for sustainability; and

(2) A summative evaluation plan, including a timeline, to collect and analyze data on positive changes to child, teacher, service provider, or system outcome measures over time or relative to comparison groups that can be reasonably attributable to project activities. The plan must show how the child, teacher, service provider, or system outcome and implementation data collected by the project will be used separately or in combination to demonstrate the promise of the model.

(e) A budget for attendance at the following:

(1) A one and one half-day kick-off meeting to be held in Washington, DC, after receipt of the award;

(2) A three-day Project Directors' Conference in Washington, DC, occurring twice during the project performance period; and

(3) Four travel days spread across years two through four of the project period to attend planning meetings, Department briefings, Department-sponsored conferences, and other meetings, as requested by OSEP, to be held in Washington, DC.

Other Project Activities: To meet the requirements of this priority, each project, at a minimum, must:

(a) Communicate and collaborate on an ongoing basis with other Department-funded projects, including, at minimum, OSEP-funded TA centers that might disseminate information on the model or support the scale-up efforts of a promising model;

(b) Maintain ongoing telephone and email communication with the OSEP project officer and the other model demonstration projects funded under this priority; and

(c) If the project maintains a website, include relevant information about the model, the intervention, and the demonstration activities that meets government- or industry-recognized standards for accessibility.

Competitive Preference Priority: Within this absolute priority, we give competitive preference to applications that address the following priority. Under 34 CFR 75.105(c)(2)(i), we award an additional two points to an application that meets this priority.

The priority is:

Promising Evidence Supporting the Proposed Model (Two Points).

Projects that are supported by evidence that meets the conditions set out in the definition of “promising evidence” (as defined in this notice). The application must include:

A literature review, as required under paragraph (a) under the heading Application Requirements, that includes research that meets at least the promising evidence standard supporting the proposed model, its components, and processes to improve academic grade-level content, particularly English Language Arts, and academic outcomes for students with intellectual disabilities in elementary or middle school.

Note: An applicant addressing this competitive preference priority must identify at least one, but no more than two, study citations that meet this standard and must clearly mark them in the reference list of the proposal.

References

Allor, J.H., Mathes, P.G., Roberts, J.K., Cheatham, J.P., & Champlin, T.M. (2010). Comprehensive reading instruction for students with intellectual disabilities: Findings from the first three years of a longitudinal study. Psychology in the Schools, 47(5), 445-466.

Browder, D.M., Mims, P.J., Spooner, F., Ahlgrim-Delzell, L., & Lee, A. (2008). Teaching elementary students with multiple disabilities to participate in shared stories. Research and Practice for Persons with Severe Disabilities, 33(1-2), 3-12.

Browder, D.M., Wakeman, S.Y., Spooner, F., Ahlgrim-Delzell, L., & Algozzine, B. (2006). Research on reading instruction for individuals with significant cognitive disabilities. Exceptional Children, 72(4), 392-408.

Butler, F.M., Miller, S.P., Lee, K.H., & Pierce, T. (2001). Teaching mathematics to students with mild-to-moderate mental retardation: A review of the literature. Mental Retardation, 39(1), 20-31.

Hudson, M.E., Browder, D.M., & Wood, L.A. (2013). Review of experimental research on academic learning by students with moderate and severe intellectual disability in general education. Research and Practice for Persons with Severe Disabilities, 38(1), 17-29.

Individuals with Disabilities Education Improvement Act of 2004, Public Law 108-446. (2004). 20 U.S.C. 1400 et seq.

Jimenez, B.A., Browder, D.M., Spooner, F., & DiBiase, W. (2012). Inclusive inquiry science using peer-mediated embedded instruction for students with moderate intellectual disability. Exceptional Children, 78(3), 301-317.

Jimenez, B. & Henderson, K. (2011). Math education: Students with significant cognitive disabilities—A PowerPoint presentation for professional development. Modules Addressing Special Education and Teacher Education (MAST). Greenville, NC: East Carolina University.

Lemons, C.J., Allor, J.H., Al Otaiba, S., & LeJeune, L.M. (2016). 10 Research-Based Tips for Enhancing Literacy Instruction for Students With Intellectual Disability. TEACHING Exceptional Children, 49(1), 18-30.

Schulte, A.C., Stevens, J.J., Elliott, S.N., Tindal, G., & Nese, J.F. (2016). Achievement gaps for students with disabilities: Stable, widening, or narrowing on a statewide reading comprehension test? Journal of Educational Psychology, 108(7), 925-942.

Definitions

The following definitions are from 34 CFR 77.1 or 34 CFR 300.8(c)(6):

Demonstrates a rationale means a key project component included in the project's logic model is informed by research or evaluation findings that suggest the project component is likely to improve relevant outcomes.

Evidence-based means the proposed project component is supported by one or more of strong evidence, moderate evidence, promising evidence, or evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Intellectual disability means significantly subaverage general intellectual functioning, existing concurrently with deficits in adaptive behavior and manifested during the developmental period, that adversely affects a child's educational performance.

Logic model (also referred to as a theory of action) means a framework that identifies key project components of the proposed project (i.e., the active “ingredients” that are hypothesized to be critical to achieving the relevant outcomes) and describes the theoretical and operational relationships among the key project components and relevant outcomes.

Moderate evidence means that there is evidence of effectiveness of a key project component in improving a relevant outcome for a sample that overlaps with the populations or settings proposed to receive that component, based on a relevant finding from one of the following:

(i) A practice guide prepared by the WWC using version 2.1 or 3.0 of the WWC Handbook reporting a “strong evidence base” or “moderate evidence base” for the corresponding practice guide recommendation;

(ii) An intervention report prepared by the WWC using version 2.1 or 3.0 of the WWC Handbook reporting a “positive effect” or “potentially positive effect” on a relevant outcome based on a “medium to large” extent of evidence, with no reporting of a “negative effect” or “potentially negative effect” on a relevant outcome; or

(iii) A single experimental study or quasi-experimental design study reviewed and reported by the WWC using version 2.1 or 3.0 of the WWC Handbook, or otherwise assessed by the Department using version 3.0 of the WWC Handbook, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

Relevant outcome means the student outcome(s) or other outcome(s) the key project component is designed to improve, consistent with the specific goals of the program.

Strong evidence means that there is evidence of the effectiveness of a key project component in improving a relevant outcome for a sample that overlaps with the populations and settings proposed to receive that component, based on a relevant finding from one of the following:

(i) A practice guide prepared by the WWC using version 2.1 or 3.0 of the WWC Handbook reporting a “strong evidence base” for the corresponding practice guide recommendation;

(ii) An intervention report prepared by the WWC using version 2.1 or 3.0 of the WWC Handbook reporting a “positive effect” on a relevant outcome based on a “medium to large” extent of evidence, with no reporting of a “negative effect” or “potentially negative effect” on a relevant outcome; or

(iii) A single experimental study reviewed and reported by the WWC using version 2.1 or 3.0 of the WWC Handbook, or otherwise assessed by the Department using version 3.0 of the WWC Handbook, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation.

Waiver of Proposed Rulemaking: Under the Administrative Procedure Act (APA) (5 U.S.C. 553) the Department generally offers interested parties the opportunity to comment on proposed priorities and other requirements. Section 681(d) of IDEA, however, makes the public comment requirements of the APA inapplicable to the absolute priority and related definitions in this notice.

Program Authority: 20 U.S.C. 1463 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: $1,200,000.

Contingent upon the availability of funds and the quality of applications, we may make additional awards in FY 2019 from the list of unfunded applications from this competition.

Estimated Range of Awards: $375,000 to $400,000 per year.

Estimated Average Size of Awards: $400,000 per year.

Maximum Award: We will not make an award exceeding $400,000 for a single budget period of 12 months.

Estimated Number of Awards: 3.

Note: The Department is not bound by any estimates in this notice.

Project Period: Up to 48 months.

III. Eligibility Information

1. Eligible Applicants: State educational agencies (SEAs); LEAs, including charter schools that are considered LEAs under State law; IHEs; other public agencies; private nonprofit organizations; outlying areas; freely associated States; Indian Tribes or Tribal organizations; and for-profit organizations.

2. Cost Sharing or Matching: This program does not require cost sharing or matching.

3. Subgrantees: Under 34 CFR 75.708 (b) and (c) a grantee under this competition may award subgrants—to directly carry out project activities described in its application—to the following types of entities: IHEs and private nonprofit organizations suitable to carry out the activities proposed in the application. The grantee may award subgrants to entities it has identified in an approved application.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This competition is subject to Executive Order 12372 and the regulations in 34 CFR part 79. However, under 34 CFR 79.8(a), we waive intergovernmental review in order to make awards by the end of FY 2018.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

(1) The Secretary considers the significance of the proposed project.

(2) In determining the significance of the proposed project, the Secretary considers the following factors:

(i) The potential contribution of the proposed project to increased knowledge or understanding of educational problems, issues, or effective strategies.

(ii) The extent to which the proposed project is likely to build local capacity to provide, improve, or expand services that address the needs of the target population.

(iii) The importance or magnitude of the results or outcomes likely to be attained by the proposed project, especially improvements in teaching and student achievement.

(iv) The likely utility of the products (such as information, materials, processes, or techniques) that will result from the proposed project, including the potential for their being used effectively in a variety of other settings.

(b) Quality of the project design (35 points).

(1) The Secretary considers the quality of the design of the proposed project.

(2) In determining the quality of the design of the proposed project, the Secretary considers the following factors:

(i) The extent to which the goals, objectives, and outcomes to be achieved by the proposed project are clearly specified and measurable.

(ii) The extent to which the design of the proposed project includes a thorough, high-quality review of the relevant literature, a high-quality plan for project implementation, and the use of appropriate methodological tools to ensure successful achievement of project objectives.

(iii) The quality of the proposed demonstration design and procedures for documenting project activities and results.

(iv) The extent to which the design for implementing and evaluating the proposed project will result in information to guide possible replication of project activities or strategies, including information about the effectiveness of the approach or strategies employed by the project.

(v) The extent to which performance feedback and continuous improvement are integral to the design of the proposed project.

(c) Adequacy of resources and quality of the management plan (25 points).

(1) The Secretary considers the adequacy of resources and the quality of the management plan for the proposed project.

(2) In determining the adequacy of resources and the quality of the management plan for the proposed project, the Secretary considers the following factors:

(i) The adequacy of support, including facilities, equipment, supplies, and other resources, from the applicant organization or the lead applicant organization.

(ii) The relevance and demonstrated commitment of each partner in the proposed project to the implementation and success of the project.

(iii) The extent to which the time commitments of the project director and principal investigator and other key project personnel are appropriate and adequate to meet the objectives of the proposed project.

(iv) How the applicant will ensure that a diversity of perspectives are brought to bear in the operation of the proposed project, including those of parents, teachers, the business community, a variety of disciplinary and professional fields, recipients or beneficiaries of services, or others, as appropriate.

(v) The adequacy of the management plan to achieve the objectives of the proposed project on time and within budget, including clearly defined responsibilities, timelines, and milestones for accomplishing project tasks.

(vi) The adequacy of mechanisms for ensuring high-quality products and services from the proposed project.

(d) Quality of the project evaluation (25 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation will provide performance feedback and permit periodic assessment of progress toward achieving intended outcomes.

(iii) The extent to which the methods of evaluation provide for examining the effectiveness of project implementation strategies.

(iv) The extent to which the evaluation will provide guidance about effective strategies suitable for replication or testing in other settings.

(v) The extent to which the methods of evaluation include the use of objective performance measures that are clearly related to the intended outcomes of the project and will produce quantitative and qualitative data to the extent possible.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: Under the Government Performance and Results Act of 1993, the Department has established a set of performance measures, including long-term measures, that are designed to yield information on various aspects of the effectiveness and quality of the Model Demonstration Projects to Improve Academic Outcomes of Students with Intellectual Disabilities in Elementary and Middle School under the Technical Assistance and Dissemination to Improve Services and Results for Children With Disabilities program. These measures are:

• Current Program Performance Measure: The percentage of effective evidence-based program models developed by model demonstration projects that are promoted to States and their partners through the Technical Assistance and Dissemination Network.

• Pilot Program Performance Measure: The percentage of effective program models developed by model demonstration projects that are sustained beyond the life of the model demonstration project.

The current program performance measure and the pilot program performance measure apply to projects funded under this competition, and grantees are required to submit data on these measures as directed by OSEP.

Grantees will be required to report information on their project's performance in annual and final performance reports to the Department (34 CFR 75.590).

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW, Room 5113, Potomac Center Plaza, Washington, DC 20202-2500. Telephone: (202) 245-7363. If you use a TDD or a TTY, call the FRS, toll free, at 1-800-877-8339.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 10, 2018.
Johnny W. Collett,
Assistant Secretary for Special Education and Rehabilitative Services.

[FR Doc. 2018-15054 Filed 7-12-18; 8:45 am]

BILLING CODE 4000-01-P